DEPARTMENT OF COMMERCE

National Oceanic and Atmospheric Administration

50 CFR Part 679

[Docket No. 060216045-6045-01; I.D. 010807B]

Fisheries of the Exclusive Economic Zone Off Alaska; Inseason Adjustment to the 2007 Aleutian Islands Atka Mackerel Total Allowable Catch Amounts

AGENCY: National Marine Fisheries Service (NMFS), National Oceanic and Atmospheric Administration (NOAA), Commerce.

ACTION: Temporary rule; inseason adjustment; request for comments.

SUMMARY: NMFS is adjusting the annual total allowable catch amount (TAC) for the Central and Western Aleutian District Atka mackerel fisheries. This action is necessary because NMFS has determined these TACs are incorrectly specified. This action will ensure the A and B season harvests of Central and Western Aleutian District Atka mackerel do not exceed the appropriate amount based on the best available scientific information for Atka mackerel in the Aleutian Islands subarea. This action is consistent with the goals and objectives of the Fishery Management Plan for Groundfish of the Bering Sea and Aleutian Islands Management Area (FMP).

DATES: Effective 1200 hrs, Alaska local time (A.l.t.), January 12, 2007, through 2400 hrs, A.l.t., April 15, 2007, unless otherwise modified or superceded through publication of a notification in the Federal Register.

Comments must be received at the following address no later than 4:30 p.m., A.l.t., January 29, 2007.

ADDRESSES: Send comments to Sue Salveson, Assistant Regional Administrator, Sustainable Fisheries Division, Alaska Region, NMFS, Attn: Ellen Sebastian. Comments may be submitted by:

• Mail to: P.O. Box 21668, Juneau, AK 99802;

• Hand delivery to the Federal Building, 709 West 9th Street, Room 420A, Juneau, Alaska;

• FAX to 907-586-7557;

• E-mail to AIATKAMACK-TAC07@noaa.gov and include the subject line of the e-mail comment the document identifier: AIATKAMACK-TAC07 (E-mail comments, with or without attachments, are limited to 5 megabytes); or

• Webform at the Federal eRulemaking Portal: http/www.regulations.gov. Follow the instructions at that site for submitting comments.

FOR FURTHER INFORMATION CONTACT: Josh Keaton, 907-586-7228.

SUPPLEMENTARY INFORMATION: NMFS manages the groundfish fishery in the Bering Sea and Aleutian Islands (BSAI) according to the FMP prepared by the North Pacific Fishery Management Council (Council) under authority of the Magnuson-Stevens Fishery Conservation and Management Act. Regulations governing fishing by U.S. vessels in accordance with the FMP appear at subpart H of 50 CFR part 600 and 50 CFR part 679.

The 2007 TAC of Atka mackerel in the Central Aleutian District of the BSAI is 38,000 metric tons (mt) as established by the 2006 and 2007 harvest specification for groundfish in the BSAI (71 FR 19894, March 3, 2006). In accordance with § 679.20(a)(8)(ii), the 2007 A and B season allowances of Atka mackerel in the Central Aleutian District of the BSAI are each 17,575 mt, and the 2007 A and B season Harvest Limit Area (HLA) limits of Atka mackerel in the Central Aleutian District of the BSAI are each 10,545 mt.

The 2007 TAC of Atka mackerel in the Western Aleutian District of the BSAI is 17,500 mt as established by the 2006 and 2007 harvest specification for groundfish in the BSAI (71 FR 19894, March 3, 2006). In accordance with § 679.20(a)(8)(ii), the 2007 A and B season allowances of Atka mackerel in the Western Aleutian District of the BSAI are each 8,750 mt, and the 2007 A and B season Harvest Limit Area (HLA) limits of Atka mackerel in the Western Aleutian District of the BSAI are each 5,250 mt.

In December 2006, the Council recommended a 2007 Atka mackerel TAC of 29,600 mt for the Central Aleutian District and 9,600 mt for the Western Aleutian District. These amounts are less than the TACs as established by the 2006 and 2007 harvest specification for groundfish in the BSAI (71 FR 19894, March 3, 2006). The TACs recommended by the Council are based on the Stock Assessment and Fishery Evaluation report (SAFE), dated November 2006, which NMFS has determined is the best available scientific information for this fishery.

Steller sea lions occur in the same location as the Aleutian Islands Atka mackerel fishery and are listed as endangered under the Endangered Species Act (ESA). Atka mackerel is a principal prey species for Steller sea lions in the Aleutian Islands subarea. The seasonal apportionment of Atka mackerel harvest is necessary to ensure the groundfish fisheries are not likely to cause jeopardy of extinction or adverse modification of critical habitat for Steller sea lions. The regulations at § 679.20(a)(ii)(8)(A) require the Atka mackerel TAC specified for each subarea or district of the BSAI to be divided equally, after subtraction of the jig gear allocation and reserves, into two seasonal allowances corresponding to the A and B seasons defined at § 679.23(e)(3).

In accordance with § 679.25(a)(2)(i)(B), the Administrator, Alaska Region, NMFS (Regional Administrator), has determined that, based on the November 2006 SAFE report for this fishery, the current Central and Western Aleutian District Atka mackerel TACs are incorrectly specified. Consequently, the Regional Administrator is adjusting the 2007 Atka mackerel TAC to 29,600 mt in the Central Aleutian District and 9,600 mt in the Western Aleutian District of the BSAI. In accordance with § 679.20(a)(8)(ii) the 2007 A and B season apportionments for Atka mackerel after deducting the CDQ reserve are each adjusted to 13,690 mt in the Central Aleutian District and 4,440 mt in the Western Aleutian District of the BSAI. Consequently, the 2007 A and B season HLA limits are each adjusted to 8,214 mt for the Central Aleutian District and 2,664 mt for the Western Aleutian District of the BSAI.

Pursuant to § 679.20(a)(8), Tables 4, 12, and 14 of the 2006 and 2007 final harvest specifications for groundfish in the BSAI (71 FR 10894, March 3, 2006) are revised for the 2007 Atka mackerel TACs consistent with this adjustment.

Table 4—2006 and 2007 Seasonal and Spatial Allowances, Gear Shares, and CDQ Reserve of the BSAI ATKA Mackerel TAC¹
[Amounts are in metric tons]
Subarea and component | 2006 TAC | 2006 CDQ reserve | 2006 CDQ reserve HLA limit⁴ | 2006 ITAC | 2006 Seasonal allowances²: A season³: Total | 2006 Seasonal allowances²: A season³: HLA limit⁴ | 2006 Seasonal allowances²: B season³: Total | 2006 Seasonal allowances²: B season³: HLA limit⁴
Western AI District | 15,500 | 1,163 | 698 | 14,338 | 7,169 | 4,301 | 7,169 | 4,301
Central AI District | 40,000 | 3,000 | 1,800 | 37,000 | 18,500 | 11,100 | 18,500 | 11,100
EAI/BS subarea⁵ | 7,500 | 563 | n/a | 6,938 | n/a | n/a | n/a | n/a
Jig (1%)⁶ | n/a | n/a | n/a | 69 | n/a | n/a | n/a | n/a
Other gear (99%) | n/a | n/a | n/a | 6,868 | 3,434 | n/a | 3,434 | n/a
Total | 63,000 | n/a | n/a | n/a | 29,103 | n/a | 29,103 | n/a
Western AI District | 9,600 | 720 | 432 | 8,880 | 4,440 | 2,664 | 4,440 | 2,664
Central AI District | 29,600 | 2,220 | 1,332 | 27,380 | 13,690 | 8,214 | 13,690 | 8,214
EAI/BS subarea⁵ | 7,500 | 563 | n/a | 6,938 | n/a | n/a | n/a | n/a
Jig (1%)⁶ | n/a | n/a | n/a | 69 | n/a | n/a | n/a | n/a
Other gear (99%) | n/a | n/a | n/a | 6,868 | 3,434 | n/a | 3,434 | n/a
Total | 46,700 | n/a | n/a | n/a | 21,564 | 10,878 | 21,564 | 10,878
¹ Regulations at §§ 679.20(a)(8)(ii) and 679.22(a) establish temporal and spatial limitations for the Atka mackerel fishery.
² The seasonal allowances of Atka mackerel are 50 percent in the A season and 50 percent in the B season.
³ The A season is January 1 (January 20 for trawl gear) to April 15 and the B season is September 1 to November 1.
⁴ Harvest Limit Area (HLA) limit refers to the amount of each seasonal allowance that is available for fishing inside the HLA (see § 679.2). In 2006 and 2007, 60 percent of each seasonal allowance is available for fishing inside the HLA in the Western and Central Aleutian Districts.
⁵ Eastern Aleutian District and the Bering Sea subarea.
⁶ Regulations at § 679.20 (a)(8)(i) require that up to 2 percent of the Eastern Aleutian District and the Bering Sea subarea ITAC be allocated to jig gear. The amount of this allocation is 1 percent. The jig gear allocation is not apportioned by season.

Table 12—2006 and 2007 Listed BSAI American Fisheries Act Catcher/Processor Groundfish Sideboard Limits
[Amounts are in metric tons]
Target species | Area | 1995 - 1997: Retained catch | 1995 - 1997: Total catch | 1995 - 1997: Ratio of retained catch to total catch | 2006 ITAC available to trawl C/Ps | 2006 C/P sideboard limit | 2007 ITAC available to trawl C/Ps | 2007 C/P sideboard limit
Pacific cod trawl | BSAI | 12,424 | 48,177 | 0.258 | 42,171 | 10,880 | 32,171 | 8,300
Sablefish trawl | BS | 8 | 497 | 0.016 | 1,199 | 19 | 1,148 | 18
| AI | 0 | 145 | 0.000 | 638 | 0 | 582 | 0
Atka mackerel | Central AI | n/a | n/a | n/a | n/a | n/a | n/a | n/a
| A season¹ | n/a | n/a | 0.115 | 18,500 | 2,128 | 13,690 | 1,574
| HLA limit² | n/a | n/a | n/a | 11,100 | 1,277 | 8,214 | 945
| B season¹ | n/a | n/a | 0.115 | 18,500 | 2,128 | 13,690 | 1,574
| HLA limit² | n/a | n/a | n/a | 11,100 | 1,277 | 8,214 | 945
| Western AI | n/a | n/a | n/a | n/a | n/a | n/a | n/a
| A season¹ | n/a | n/a | 0.200 | 7,169 | 1,434 | 4,440 | 888
| HLA limit² | n/a | n/a | n/a | 4,301 | 860 | 2,664 | 533
| B season¹ | n/a | n/a | 0.200 | 7,169 | 1,434 | 4,440 | 888
| HLA limit² | n/a | n/a | n/a | 4,301 | 860 | 2,664 | 533
Yellowfin sole | BSAI | 100,192 | 435,788 | 0.230 | 81,346 | 18,710 | 91,495 | 21,044
Rock sole | BSAI | 6,317 | 169,362 | 0.037 | 35,275 | 1,305 | 37,400 | 1,384
Greenland turbot | BS | 121 | 17,305 | 0.007 | 1,607 | 11 | 1,543 | 11
| AI | 23 | 4,987 | 0.005 | 723 | 4 | 693 | 3
Arrowtooth flounder | BSAI | 76 | 33,987 | 0.002 | 11,050 | 22 | 15,300 | 31
Flathead sole | BSAI | 1,925 | 52,755 | 0.036 | 16,575 | 597 | 18,700 | 673
Alaska plaice | BSAI | 14 | 9,438 | 0.001 | 6,800 | 7 | 12,750 | 13
Other flatfish | BSAI | 3,058 | 52,298 | 0.058 | 2,975 | 173 | 4,250 | 247
Pacific ocean perch | BS | 12 | 4,879 | 0.002 | 1,190 | 2 | 2,516 | 5
| Eastern AI | 125 | 6,179 | 0.020 | 2,849 | 57 | 3,012 | 60
| Central AI | 3 | 5,698 | 0.001 | 2,808 | 3 | 2,971 | 3
| Western AI | 54 | 13,598 | 0.004 | 4,703 | 19 | 4,969 | 20
Northern rockfish | BSAI | 91 | 13,040 | 0.007 | 4,163 | 29 | 4,625 | 32
Shortraker rockfish | BSAI | 50 | 2,811 | 0.018 | 537 | 10 | 537 | 10
Rougheye rockfish | BSAI | 50 | 2,811 | 0.018 | 207 | 4 | 207 | 4
Other rockfish | BS | 18 | 621 | 0.029 | 426 | 12 | 750 | 22
| AI | 22 | 806 | 0.027 | 502 | 14 | 502 | 14
Squid | BSAI | 73 | 3,328 | 0.022 | 1,084 | 24 | 1,084 | 24
Other species | BSAI | 553 | 68,672 | 0.008 | 24,650 | 197 | 22,950 | 184
¹ The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
² Harvest Limit Area (HLA) limit refers to the amount of each seasonal allowance that is available for fishing inside the HLA (see § 679.2). In 2006 and 2007, 60 percent of each seasonal allowance is available for fishing inside the HLA in the Western and Central Aleutian Districts.

Table 14—2006 and 2007 BSAI American Fisheries Act Catcher Vessel Sideboard Limits
[Amounts are in metric tons]
Species | Fishery by area/season/ processor/gear | Ratio of 1995-1997 AFA CV catch to 1995 1997 TAC | 2006 initial TAC | 2006 Catcher vessel sideboard limits | 2007 initial TAC | 2007 Catcher vessel sideboard limits
Pacific cod | BSAI | n/a | n/a | n/a | n/a | n/a
| Jig gear | 0.0000 | 3,589 | 0 | 2,738 | 0
| Hook-and-line CV | n/a | n/a | n/a | n/a | n/a
| Jan 1 - Jun 10 | 0.0006 | 164 | 0 | 125 | 0
| Jun 10 - Dec 31 | 0.0006 | 109 | 0 | 83 | 0
| Pot gear CV | n/a | n/a | n/a | n/a | n/a
| Jan 1 - Jun 10 | 0.0006 | 8,192 | 5 | 6,239 | 4
| Sept 10 - Dec 31 | 0.0006 | 5,461 | 3 | 4,159 | 2
| CV < 60 feet LOA using hook-and-line or pot gear | 0.0006 | 1,274 | 1 | 970 | 1
| Trawl gear CV | n/a | n/a | n/a | n/a | n/a
| Jan 20 - Apr 1 | 0.8609 | 29,520 | 25,414 | 22,520 | 19,387
| Apr 1 - Jun 10 | 0.8609 | 4,217 | 3,630 | 3,217 | 2,770
| Jun 10 - Nov 1 | 0.8609 | 8,434 | 7,261 | 6,434 | 5,539
Sablefish | BS trawl gear | 0.0906 | 1,199 | 109 | 1,148 | 104
| AI trawl gear | 0.0645 | 638 | 41 | 582 | 38
Atka mackerel | Eastern AI/BS | n/a | n/a | n/a | n/a | n/a
| Jig gear | 0.0031 | 69 | 0 | 69 | 0
| Other gear | n/a | n/a | n/a | n/a | n/a
| Jan 1 - Apr 15 | 0.0032 | 3,434 | 11 | 3,434 | 11
| Sept 1 - Nov 1 | 0.0032 | 3,434 | 11 | 3,434 | 11
| Central AI | n/a | n/a | n/a | n/a | n/a
| Jan - Apr 15 | 0.0001 | 18,500 | 2 | 13,690 | 1
| HLA limit | 0.0001 | 11,100 | 1 | 8,214 | 1
| Sept 1 - Nov 1 | 0.0001 | 18,500 | 2 | 13,690 | 1
| HLA limit | 0.0001 | 11,100 | 1 | 8,214 | 1
| Western AI | n/a | n/a | n/a | n/a | n/a
| Jan - Apr 15 | 0.0000 | 7,169 | 0 | 4,440 | 0
| HLA limit | n/a | 4,301 | 0 | 2,664 | 0
| Sept 1 - Nov 1 | 0.0000 | 7,169 | 0 | 4,440 | 0
| HLA limit | n/a | 4,301 | 0 | 2,664 | 0
Yellowfin sole | BSAI | 0.0647 | 81,346 | 5,263 | 91,495 | 5,920
Rock sole | BSAI | 0.0341 | 35,275 | 1,203 | 37,400 | 1,275
Greenland Turbot | BS | 0.0645 | 1,607 | 104 | 1,543 | 100
| AI | 0.0205 | 723 | 15 | 693 | 14
Arrowtooth flounder | BSAI | 0.0690 | 11,050 | 762 | 15,300 | 1,056
Alaska plaice | BSAI | 0.0441 | 6,800 | 300 | 12,750 | 562
Other flatfish | BSAI | 0.0441 | 2,975 | 131 | 4,250 | 187
Pacific ocean perch | BS | 0.1000 | 1,190 | 119 | 2,516 | 252
| Eastern AI | 0.0077 | 2,849 | 22 | 3,012 | 23
| Central AI | 0.0025 | 2,808 | 7 | 2,971 | 7
| Western AI | 0.0000 | 4,703 | 0 | 4,969 | 0
Northern rockfish | BSAI | 0.0084 | 4,163 | 35 | 4,625 | 39
Shortraker rockfish | BSAI | 0.0037 | 537 | 2 | 537 | 2
Rougheye rockfish | BSAI | 0.0037 | 207 | 1 | 207 | 1
Other rockfish | BS | 0.0048 | 426 | 2 | 750 | 4
| AI | 0.0095 | 502 | 5 | 502 | 5
Squid | BSAI | 0.3827 | 1,084 | 415 | 1,084 | 415
Other species | BSAI | 0.0541 | 24,650 | 1,334 | 22,950 | 1,242
Flathead Sole | BS trawl gear | 0.0505 | 16,575 | 837 | 18,700 | 944

Classification

This action responds to the best available information recently obtained from the fishery. The Assistant Administrator for Fisheries, NOAA (AA), finds good cause to waive the requirement to provide prior notice and opportunity for public comment pursuant to the authority set forth at 5 U.S.C. 553(b)(B) and 679.25(c)(2) as such requirement is impracticable and contrary to the public interest. This requirement is impracticable and contrary to the public interest as it would prevent NMFS from responding to the most recent fisheries data in a timely fashion and would allow for harvests that exceed the appropriate A and B season apportionments for Atka mackerel based on the best scientific information available. The Atka mackerel fishery is harvested rapidly and completely in the early part of the A season. NMFS was unable to publish a notice providing time for public comment because the most recent, relevant data only became available as of December 13, 2006, and additional time for prior public comment would result in conservation concerns for the ESA-listed Steller sea lions.

The AA also finds good cause to waive the 30-day delay in the effective date of this action under 5 U.S.C. 553(d)(3). This finding is based upon the reasons provided above for waiver of prior notice and opportunity for public comment.

Under § 679.25(c)(2), interested persons are invited to submit written comments on this action to the above address until January 29, 2007.

This action is required by § 679.22 and is exempt from review under Executive Order 12866.

Authority: 16 U.S.C. 1801 et seq.

Dated: January 8, 2007.
James P. Burgess,
Acting Director, Office of Sustainable Fisheries, National Marine Fisheries Service.

[FR Doc. 07-107 Filed 1-9-07; 2:49 pm]

BILLING CODE 3510-22-S